DEPARTMENT OF THE INTERIOR

Bureau of Land Management

[MT-040-1430-EU; SDM 87107]

Notice of Realty Action, Direct Sale of Public Lands, Lawrence County, SD

AGENCY: Bureau of Land Management, Interior.

ACTION: Notice of Realty Action.

SUMMARY: The below described lands are suitable for disposal by direct sale.

DATES: Interested parties may submit comments pertaining to this action. The lands will not be offered for sale until October 14, 2003.

ADDRESSES: Written comments concerning the proposed sale should be sent to the Bureau of Land Management, South Dakota Field Office, 310 Roundup Street, Belle Fourche, South Dakota 57717.

FOR FURTHER INFORMATION CONTACT: You may contact Chuck Berdan, at 605-892-7000. Additional information concerning the land sale, including relevant planning and environment documentation, may be obtained from the South Dakota Field Office at the above address.

SUPPLEMENTARY INFORMATION: Under section 203 of the Federal Land Policy and Management Act of October 21, 1976 (43 U.S.C 1719), the following described lands are available for direct sale. The subject land will be sold at the approved appraised fair market value of $300. The potential buyer of the land will also make application under section 209 of the Federal Land Policy and Management Act of October 21, 1976, to purchase the mineral estate along with the surface estate.

Black Hills Meridian, South Dakota

T. 4 N., R. 2 E.,

Sec. 1, lots 7 and 25.

T. 4 N., R. 3 E.,

Sec. 36, lots 10, 22 and 23.

Containing 4.05 acres.

The purpose of the proposed sale is to dispose of parcels that are isolated and uneconomic to manage as a part of the public lands and are not suitable for management by another Federal department or agency. The parcels are small tracts with no public access. The proposed sale is consistent with the South Dakota Resource Management Plan (November 1985), and the public interest will be served by offering the parcels for sale.

The adjoining land ownership pattern and lack of access indicate that a direct sale is appropriate. The parcels will be offered for non-competitive sale to Wharf Resources (U.S.A.), Inc., who is the adjacent and surrounding landowner.

A mineral examination of the subject lands determined that any minerals associated with these parcels have been removed by prior mining operations in the area, and that they now have no known mineral value. Acceptance of a direct sale offer will constitute an application for conveyance of those mineral interests.

Conveyance of the available mineral interests would occur simultaneously with the sale of the land. The applicant will be required to pay a $50 non-refundable filing fee for conveyance of the available mineral interests.

The patent, when issued, will contain the following reservation: a right-of-way thereon for ditches and canals constructed by the authority of the United States, under the Act of August 30, 1890 (43 U.S.C. 945).

The State Director, who may sustain, vacate, or modify this realty action, will review objections to the sale. In the absence of any objections, this proposal will become the final determination of the Department of the Interior.

Publication of this notice in the Federal Register will segregate the public lands from appropriations under the public land laws, including the mining laws, pending disposition of this action or May 24, 2004, which ever occurs first. Under the application to convey the mineral estate, the mineral interests of the United States are segregated from appropriation under the public land laws, including the mining laws, for a period of 2 years from the date of filing the application.

Russell W. Pigors,
Acting South Dakota Field Manager.

[FR Doc. 03-22059 Filed 8-27-03; 8:45 am]

BILLING CODE 4310-$$-P